NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time: April 13, 2023; 10:00 a.m.-4:30 p.m. EDT; April 14, 2023; 10:00 a.m.-4:00 p.m. EDT.

Place: National Science Foundation, 2415 Eisenhower Avenue, Alexandria, Virginia 22314; In-person and Virtual via Zoom.

Registration for the meeting will be available prior to the meeting date. Both the agenda and the registration link will be located on the GEO AC website at https://www.nsf.gov/geo/advisory.jsp.

Type of Meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean, and polar sciences.

Agenda

April 13, 2023

• Joint Session with Advisory Committee for the Office of Polar Programs (AC OPP)

○ Geosciences Directorate Update from Assistant Director for Geosciences

○ Discussion of the Pending AC GEO-AC OPP Merger and Future Directions

○ Update on Sexual Assault/Harassment Prevention and Response

○ Briefing from Director of the Office of Legislative and Public Affairs

○ Meeting with the NSF Director and Chief Operating Officer

April 14, 2023

• Discussion of NSF Advisory Committee on Environmental Research and Education (AC ERE) white paper on minimizing the impacts for research on the environment

• Update on the International Ocean Drilling Program

• Presentation on GEO Facilities

• Presentation by Sharon Mosher, U-Texas Austin, on Graduate Geoscience Education

• Action Items/Planning for Fall 2023 Meeting

Dated: March 13, 2023.
Crystal Robinson,
Committee Management Officer.

[FR Doc. 2023-05440 Filed 3-16-23; 8:45 am]

BILLING CODE 7555-01-P